DEPARTMENT OF HEALTH AND HUMAN SERVICES

National Institutes of Health

Center for Scientific Review; Amended Notice of Meeting

Notice is hereby given of a change in the meeting of the Center for Scientific Review Special Emphasis Panel PAR Panel: Academic-Industrial Partnerships for Translation of Technologies, October 09, 2025, 10:00 a.m. to October 09, 2025, 06:00 p.m., National Institutes of Health, Rockledge II, 6701 Rockledge Drive, Bethesda, MD 20892 which was published in the Federal Register on August 18, 2025, 90 FR 40074 Doc 2025-15607.

This meeting is being amended to change the meeting start date from October 9, 2025, to October 16, 2025. The meeting is closed to the public.

Dated: August 26, 2025.
Sterlyn H. Gibson,
Program Specialist, Office of Federal Advisory Committee Policy.

[FR Doc. 2025-16711 Filed 8-29-25; 8:45 am]

BILLING CODE 4140-01-P